DEPARTMENT OF THE INTERIOR

Fish and Wildlife Service

Notice of Intent to Prepare Comprehensive Conservation Plan for Crab Orchard National Wildlife Refuge in Williamson, Jackson and Union Counties, IL

AGENCY: Fish and Wildlife Service, Interior.

ACTION: Notice of Intent (Revised) to prepare a Comprehensive Conservation Plan (CCP) for Crab Orchard National Wildlife Refuge.

SUMMARY: This revised notice advises the public that the U.S. Fish and Wildlife Service (Service) intends to gather information necessary to prepare a comprehensive conservation plan and an associated environmental document for Crab Orchard National Wildlife Refuge in Williamson, Jackson and Union Counties, Illinois. The Service is furnishing this notice in compliance with Service comprehensive conservation plan policy and the National Environmental Policy Act and implementing regulations to achieve the following:

(1) Advise other agencies and the public of our intentions, and

(2) Obtain suggestions and information on the scope of issues, opportunities, and concerns for inclusion in the environmental assessment.

DATES: The Service will solicit information from the public via open houses, workshops, focus groups, and written comments. Special mailings, newspapers articles and radio announcements will inform people of the time and place of open houses. The date, time and place of open houses will also be posed on the Crab Orchard National Wildlife Refuge planning web site: http://www.fws.gov/r3pao/planning/cotop.htm

Public Involvement: Public scoping will begin with three open houses in October. The first meeting is scheduled Thursday, October 19, from 4 p.m. to 8 p.m. at Southwestern Illinois College in Red Bud, Illinois. The College is located at 500 West South Fourth Street. The meeting will be in the Dining Room of the New Classroom Building. A second meeting is scheduled Friday, October 20, from 2 p.m. to 8 p.m. at the Marion Hotel and Conference Center in Marion, Illinois. The hotel is located at 2600 West DeYoung Street near the intersection of Interstate 57 (Exit 54B) and Illinois New Route 13. A third open house is scheduled from 8 a.m. to 12 p.m. at Crab Orchard National Wildlife Refuge Visitor Center. The Visitor Center is located on the east side of Route 148 about 1¾ miles south of the intersection of Route 148 and New Route 13.

ADDRESSES: Address comments and requests from more information to: Refuge Manager, Crab Orchard National Wildlife Refuge, 8588 Route 148, Marion, IL 62959; or E-mail: conwr-ccp@fws.gov

FOR FURTHER INFORMATION CONTACT: Mr. Thomas Palmer, Planning Coordinator, Crab Orchard National Wildlife Refuge, U.S. Fish and Wildlife Service, 8588 Route 148, Marion, IL 62959-9970, telephone 618-997-3344; or Mr. John Schomaker, Refuge Planning Specialist, U.S. Fish and Wildlife Service, RO/AP, BHW Federal Building, 1 Federal Drive, Ft. Snelling, MN 55111, telephone 612-713-5476.

SUPPLEMENTARY INFORMATION: It is Service policy to have all lands within the National Wildlife Refuge System managed in accordance with an approved comprehensive conservation plan. The plan guides management decisions and identifies Refuge goals, objectives, and strategies for achieving Refuge purposes. Public input into this planning process is encouraged. The plan will provide other agencies and the public with a clear understanding of the desired future conditions of the Refuge and how the Service will implement management strategies. Some of the issues to be addressed in the plan include the following:

(a) Habitat management;

(b) Public use management;

(c) Wildlife population management;

(d) Wilderness management;

(e) Industrial facilities management; and

(f) Cultural resource identification and protection.

After the public scoping of issues, a decision will be made whether to prepare an environmental assessment or an environmental impact statement. If we decide to prepare an environmental impact statement, another notice of intent will be published announcing that decision. The environmental assessment or environmental impact statement will include several alternatives that address the issues and management strategies associated with these topics.

Crab Orchard National Wildlife Refuge was established on August 5, 1947, by Public law 80-361. This Act of Congress transferred certain Federal lands acquired in connection with the Crab Orchard Creek project and the Illinois Ordnance Plant to the Secretary of the Interior. This legislation mandated that these lands be administered by the Secretary through the Fish and Wildlife Service “for the conservation of wildlife, and for the development of the agricultural, recreational, industrial, and related purposes specified in this Act.”

The 43,890-acre Refuge contains three large man-made lakes and numerous small ponds totaling 9,000 acres, 26,000 acres of forest and brush land, 5,000 acres of cropland, 2,000 acres of grassland, and 2,000 acres of administrative lands. The Refuge supports an extensive variety of plant and animal species, hosts 1.2 million recreational visitors per year, provides facilities for industrial tenants, and sponsors cooperative farmers and permittee graziers. The 4,050-acre Crab Orchard Wilderness, the first wilderness are a designated in the State of Illinois, is within the Refuge.

Dated: September 29, 2000.
Marvin E. Moriarty,
Acting Regional Director.

[FR Doc. 00-25552 Filed 10-4-00; 8:45 am]

BILLING CODE 4310-55-M